DEPARTMENT OF ENERGY

Federal Energy Regulatory Commission

[Project Nos., 13010-002 Mississippi 8 Hydro, LLC and 14272-000 FFP Project 98, LLC]

Notice of Competing Preliminary Permit Applications Accepted for Filing and Soliciting Comments, Motions To Intervene, and Competing Applications

On September 1, 2011, Mississippi 8 Hydro, LLC (Mississippi 8) and FFP Project 98, LLC (FFP) filed preliminary permit applications pursuant to section 4(f) of the Federal Power Act (FPA) proposing to study the feasibility of the Mississippi River Lock and Dam No. 8 Hydroelectric Project (Lock and Dam #8 Project or project), to be located on the Mississippi River, near the town of Vernon, in Houston County, Wisconsin, at the U.S. Army Corps of Engineers' (Corps) Mississippi River Lock and Dam No. 8. The sole purpose of a preliminary permit, if issued, is to grant the permit holder priority to file a license application during the permit term. A preliminary permit does not authorize the permit holder to perform any land-disturbing activities or otherwise enter upon lands or waters owned by others without the owners' express permission.

Mississippi 8's proposed Lock and Dam #8 Project No. 13010 would consist of: (1) A new 30-foot-long by 40-foot-wide powerhouse; (2) 20 very low head (VLH) type hydraulic turbines rated for 500 kilowatts (kW) each to produce a combined total installed capacity of 5 megawatts (MW); (3) a design flow of 706 cubic feet per second (cfs) and an operating range from a minimum of 300 cfs up to a maximum of 725 cfs, at 4.6 feet of net head; (4) a tailrace, which would include a submerged dike to redirect flow as it exits the tailrace; (5) a project storage yard; (6) a concrete intake structure; (7) a substation containing step-up transformers, circuit breakers, and disconnect switches; (8) a new power pole to re-route an existing 69-kilovolt (kV) transmission line to the substation; and (9) a 500-volt (V) power line to conduct electricity from the turbines to the control house. The estimated annual generation of the project would be 35.6 gigawatt-hours (GWh). The project would utilize released flows from Lock and Dam #8 as directed by the Corps.

Applicant Contact: Mr. Brent L. Smith, COO, Symbiotics LLC, 371 Upper Terrace, Suite 2, Bend, OR 97702; phone: (541) 330-8779.

FFP is exploring two concepts for its proposed Lock and Dam #8 Project No. 14272. Concept A would consist of: (1) Four horizontal bulb turbine generators, with a combined generation capacity of 14.4 MW, placed in a newly proposed 240-foot by 275-foot powerhouse located on the west bank of the river; (2) a 40-foot by 55-foot control building located on the west end of the dam; (3) a 320-foot-long transmission line extending south from a newly proposed 60-foot by 50-foot substation located adjacent to the control building, to an existing transmission line located south of the project; (4) a new 370-foot by 880-foot tailrace channel connecting the powerhouse to the river downstream; (5) a new 350-foot by 950-foot approach channel located upstream of the powerhouse; and (6) use of an existing access road for access to the project.

Concept B would integrate 40 inclined access bulb turbine generators rated at 0.37 MW each into the gate bays of the existing moveable dam section to produce a combined total installed capacity of 14.8 MW. Concept B would involve construction of the control building, transmission line, and use of the existing access road, but would not include the construction of a new powerhouse, approach channel, or tailrace. The estimated average annual generation of concept A would be 85 GWh, and the estimated average annual generation of concept B would be 80 GWh.

Applicant Contact: Mr. Ramya Swaminathan, Free Flow Power Corporation, 239 Causeway Street, Suite 300, Boston, MA 02114; (978) 283-2822.

FERC Contact: Lesley Kordella; phone: (202) 502-6406.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13010-002, or P-14272-000) in the docket number field to access the document. For assistance, contact FERC Online Support.

Dated: September 12, 2011.
Kimberly D. Bose,
Secretary.

[FR Doc. 2011-23799 Filed 9-15-11; 8:45 am]

BILLING CODE 6717-01-P